DEPARTMENT OF TRANSPORTATION

National Highway Traffic Safety Administration

[Docket No. NHTSA-2023-0009]

Advisory Committee on Underride Protection; Notice of Public Meeting

AGENCY: National Highway Traffic Safety Administration, U.S. Department of Transportation (DOT).

ACTION: Notice of public meeting.

SUMMARY: The National Highway Traffic Safety Administration (NHTSA) announces a meeting of the Advisory Committee on Underride Protection (ACUP). This notice announces the date, time, and location of the meeting, which will be open to the public. The purpose of the ACUP is to provide advice and recommendations to the Secretary of Transportation on safety regulations to reduce underride crashes and fatalities relating to underride crashes.

DATES: This meeting will be held on May 25, 2023, from 12:30 p.m. to 4:30 p.m. ET. Pre-registration is required to attend this online meeting. A link permitting access to the meeting will be distributed to registrants within 24 hours of the meeting start time.

ADDRESSES: The meeting will be held virtually via Zoom. Information and registration for the meeting will be available on the NHTSA website (https://www.nhtsa.gov/events-and-public-meetings) at least one week in advance of the meeting.

FOR FURTHER INFORMATION CONTACT: James Myers, U.S. Department of Transportation, Special Vehicles & Systems Division, 1200 New Jersey Avenue SE, Washington, DC 20590, acup@dot.gov or (202) 493-0031.

SUPPLEMENTARY INFORMATION:

I. Background

The ACUP was established as a statutory committee pursuant to section 23011(d) of the Bipartisan Infrastructure Law, enacted as the Infrastructure Investment and Jobs Act, Public Law 117-58 (2021), and in accordance with the provisions of the Federal Advisory Committee Act, as amended, 5 U.S.C. app. 2. The purpose of the ACUP is to provide information, advice, and recommendations to the Secretary of Transportation on safety regulations to reduce underride crashes and fatalities relating to underride crashes.

The Committee duties include the following:

a. Gathering information as necessary to discuss issues presented by the Designated Federal Officer.

b. Deliberating on issues relevant to safety regulations related to underride crashes and fatalities from underride crashes.

c. Providing written consensus advice to the Secretary on underride protection to reduce underride crashes and fatalities relating to underride crashes.

II. Agenda

At the meeting, the agenda will cover the following topics:

Committee Purpose and Guidelines

Committee Member Introductions

Selection of the Committee Chair

III. Public Participation

This meeting will be open to the public. We are committed to providing equal access to this meeting for all participants. Persons with disabilities in need of an accommodation should send a request to the individual in the FOR FURTHER INFORMATION CONTACT section of this notice no later than May 17, 2023.

Members of the public may also submit written materials, questions, and comments to the Committee in advance to the individual listed in the FOR FURTHER INFORMATION CONTACT section of this notice no later than May 17, 2023.

All advance submissions will be reviewed by the Designated Federal Officer. If approved, advance submissions shall be circulated to the ACUP representatives for review prior to the meeting. All advance submissions will become part of the official record of the meeting.

Authority: The Committee is established as a statutory committee under the authority of section 23011 of the Infrastructure Investment and Jobs Act, Public Law 117-58 (2021), and in accordance with the provisions of the Federal Advisory Committee Act, as amended, 5 U.S.C. app. 2.

Issued in Washington, DC, under authority delegated in 49 CFR 501.5.
Sophie Shulman,
Deputy Administrator.

[FR Doc. 2023-08810 Filed 4-25-23; 8:45 am]

BILLING CODE 4910-59-P